DEPARTMENT OF DEFENSE

Office of the Secretary

[Transmittal No. 25-1I]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1I.

Dated: January 29, 2026.
Stephanie J. Bost,
Alternate OSD Federal Register Liaison Officer, Department of Defense.

Transmittal No. 25-1I

REPORT OF ENHANCEMENT OR UPGRADE OF SENSITIVITY OF TECHNOLOGY OR CAPABILITY (SEC. 36(B)(5)(C), AECA)

(i) Prospective Purchaser: Government of Belgium

(ii) Sec. 36(b)(1), AECA Transmittal No.: 22-63

Date: November 8, 2022

Implementing Agency: Air Force

(iii) Description: On November 8, 2022, Congress was notified by congressional certification transmittal number 22-63 of the possible sale, under Section 36(b)(1) of the Arms Export Control Act, of the Government of Belgium's request to buy one hundred twenty (120) AIM-120C-8 Advanced Medium Range Air-to-Air Missiles (AMRAAM); and ten (10) AMRAAM C-8 Guidance Sections. Also included were spare AIM-120 control sections and containers; AIM-120C Captive Air Training Missiles (CATM); other spare parts, consumables, accessories, and repair/return support; classified software; books, technical documentation, and other publications; training and training equipment; munitions support and support equipment; and other related elements of logistics and program support. The estimated total cost was $380 million. Major Defense Equipment (MDE) constituted $358 million of this total.

On March 3, 2025, Congress was notified by congressional certification transmittal number 25-0D of the possible sale, under Section 36(b)(1) of the Arms Export Control Act, of the addition of the following MDE items: one hundred fifty-nine (159) AIM-120D-3 Advanced Medium Range Air-to-Air Missiles (AMRAAM); one (1) AMRAAM D-3 guidance section; and one AIM-120D Integrated Test Vehicle. The following non-MDE items were also included: weapon system support to include software, and KGV-135A COMSEC chips. The total cost of the new MDE articles was $479 million, and the total cost of the new non-MDE items articles was $30 million. The total notified cost of MDE increased to $837 million, and the total notified case value increased to $889 million.

This transmittal notifies the inclusion of the following additional MDE items: up to nine hundred ninety-seven (997) AIM-120D-3 Advanced Medium Range Air-to-Air Missiles (AMRAAMs) and up to one hundred nineteen (119) AMRAAM D-3 guidance sections. The following non-MDE items will be included: AMRAAM support equipment and other related elements of logistics and program support. The estimated total cost of the new items is $3.131 billion. The estimated MDE value will increase by $2.853 billion to a revised $3.69 billion. The estimated non-MDE value will increase by $0.278 billion to a revised $0.33 billion. The estimated total case value will increase by $3.131 billion to a revised $4.02 billion.

(iv) Significance: This notification is provided as the additional MDE items were not enumerated in the original notification. The inclusion of this MDE represents an increase in capability over what was previously notified.

(v) Justification: This proposed sale will support the foreign policy and national security objectives of the United States by improving the security of a NATO Ally that is a force for political stability and economic progress in Europe. The proposed sale will improve Belgium's capability to meet current and future threats by maintaining its F-16 and F-35 fleets in combat-ready status and providing a credible deterrent to regional threats.

(vi) Sensitivity of Technology:

The Sensitivity of Technology Statement contained in the original notification applies to items reported here.

The highest level of classification of defense articles, components, and services included in this potential sale is SECRET.

(vii) Date Report Delivered to Congress: October 3, 2025

[FR Doc. 2026-02057 Filed 1-30-26; 8:45 am]

BILLING CODE 6001-FR-P